DEPARTMENT OF DEFENSE

Office of the Secretary

[Docket ID: DoD-2024-OS-0150]

Proposed Collection; Comment Request

AGENCY: Chief Information Officer (CIO), Department of Defense (DoD).

ACTION: 60-Day information collection notice.

SUMMARY: In compliance with the Paperwork Reduction Act of 1995, the CIO announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by March 7, 2025.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24 Suite 05F16, Alexandria, VA 22350-1700.

Instructions: All submissions received must include the agency name, docket number and title for this Federal Register document. The general policy for comments and other submissions from members of the public is to make these submissions available for public viewing at http://www.regulations.gov as they are received without change, including any personal identifiers or contact information.

FOR FURTHER INFORMATION CONTACT: To request more information on this proposed information collection or to obtain a copy of the proposal and associated collection instruments, please write to Office of the Department of Defense Chief Information Officer, 6000 Defense Pentagon, Washington, DC 20301-6000 ATTN: Mr. Rodney McCall, or call (703) 697-5936.

SUPPLEMENTARY INFORMATION:

Title; Associated Form; and OMB Number: System Authorization Access Request Form; DD 2875; OMB Control Number 0704-0630.

Needs and Uses: The information collection is necessary for validating the trustworthiness of individuals who request access to DoD systems and information. When an individual requires access to a DoD information system, application, or database, he/she retrieves the DD Form 2875. Executive Order 10450 “Security Requirements for Government Employment” establishes the security requirements for government employment. The requestor's security requirements (background investigation and clearance information) are identified on the DD Form 2875 and validated by the cognizant Security Manager. Collection of the requestor's information ensures that any system access granted is consistent with the interests of the national security.

Affected Public: Individuals or households.

Annual Burden Hours: 600,000.

Number of Respondents: 900,000.

Responses per Respondent: 8.

Annual Responses: 7,200,000.

Average Burden per Response: 5 minutes.

Frequency: As needed.

Dated: December 30, 2024.
Stephanie J. Bost,
Alternate OSD Federal Register Liaison Officer, Department of Defense.

[FR Doc. 2024-31664 Filed 1-3-25; 8:45 am]

BILLING CODE 6001-FR-P